DEPARTMENT OF ENERGY

Federal Energy Regulatory Commission

[Docket Nos. CP17-494-000; CP17-495-000]

Jordan Cove Energy Project, L.P., Pacific Connector Gas Pipeline, L.P.; Notice of Meeting

The environmental staff of the Federal Energy Regulatory Commission has scheduled a teleconference with representatives of the Confederated Tribes of Grand Ronde to discuss the proposed Jordan Cove Energy and Pacific Connector Gas Pipeline Projects. This meeting will be held on October 24, 2017 at 12:00 p.m. (EDT).

Members of the public and intervenors in the referenced proceedings may attend the meeting; however, participation will be limited to tribal representatives and Commission staff. A summary of the meeting will be prepared and filed in the Commission's administrative record. If tribal representatives choose to disclose information about a specific location which could create a risk or harm to an archeological site or Native American cultural resource, the public will be excused for the portion of the meeting when such information is disclosed.

If you would like to attend the meeting, please contact Mr. John Peconom, Environmental Project Manager, for the call-in information. Mr. Peconom can be reached by telephone at (202) 502-6352 or by email at john.peconom@ferc.gov.

Dated: October 16, 2017.
Kimberly D. Bose,
Secretary.

[FR Doc. 2017-22922 Filed 10-20-17; 8:45 am]

BILLING CODE 6717-01-P